DEPARTMENT OF COMMERCE

Establishment of the Methane Plume Remote Sensing Measurements Consortium

AGENCY: National Institute of Standards and Technology (NIST).

ACTION: Notice of Research Consortium.

SUMMARY: NIST is establishing the Methane Plume Remote Sensing Measurements Consortium (“Consortium”) to support the rapidly growing field of remote sensing for the detection and quantification of methane emissions, primarily from point sources. This Consortium aims to unite Federal and State agencies, academia, business, and industry to enhance robust transparency, accuracy, reliability, and interoperability of methane plume detection and quantification data products. In this evolving field of measurement and analysis, consistency across products and results, an understanding of the drivers of error, and a well-constructed validation strategy, are important to increase trust in the data products. To achieve this, the Consortium is focused on identifying the strengths and limitations of current methodologies and analysis approaches. The Consortium seeks to foster transparency through improved documentation, consensus building around best practices and the development of documentary consensus standards. In addition, the Consortium seeks to support the coordination and standardization of validation approaches for these measurements and the utilization of controlled releases. By fostering collaboration among business, Federal agencies, local governmental stakeholders, and researchers, the Consortium aims to drive advancements in methane plume detection and quantification and the analysis supported by them.

Participants will be required to sign a Cooperative Research and Development Agreement (CRADA).

DATES: The Consortium's activities will commence on January 15, 2024 (“Commencement Date”). NIST will accept letters of interest to participate in this Consortium on an ongoing basis.

ADDRESSES: Completed letters of interest or requests for additional information about the Consortium can be directed via mail to the Consortium Manager, Dr. Annmarie Eldering, Greenhouse Gas Measurements Program of NIST's Special Programs Office, 100 Bureau Drive, Mail Stop 2100, Gaithersburg, Maryland 20899, or via electronic mail annmarie.eldering@nist.gov, or by telephone at (301) 975-5558.

FOR FURTHER INFORMATION CONTACT: Dr. Saikat Ghosh, Partnership Officer, National Institute of Standards and Technology's Technology Partnerships Office, by mail to 100 Bureau Drive, Mail Stop 2200, Gaithersburg, Maryland 20899, by electronic mail to Saikatkumar.Ghosh@nist.gov or by telephone at (301) 975-3084.

SUPPLEMENTARY INFORMATION: NIST is establishing the Methane Plume Remote Sensing Measurements Consortium (“Consortium”) to support the rapidly growing field of remote sensing for the detection and quantification of methane emissions, primarily from point sources. This Consortium aims to unite Federal and State agencies, academia, business, and industry to enhance robust transparency, accuracy, reliability, and interoperability of methane plume detection and quantification data products. In this rapidly growing and evolving field of measurement and analysis, consistency across products and results, an understanding of the drivers of error, and a well-constructed validation strategy are important to increase trust in the data products. To achieve this, the Consortium is focused on identifying strengths and limitations current methodologies and analysis approaches. The Consortium seeks to foster transparency through improved documentation, consensus building around best practices and the development of documentary consensus standards. In addition, the Consortium seeks to support the coordination and standardization of validation approaches for these measurements and the utilization of controlled releases. By fostering collaboration among business, Federal agencies, local governmental stakeholders, and researchers, the Consortium aims to drive advancements in methane plume detection and quantification and the analysis supported by them.

Consortium Goals

The Consortium brings together NIST, state and local governments, academia, businesses, and other stakeholders to collaborate on analysis, documentation, and consensus building that will improve transparency, trust, and usability of remote sensing methane plume detections and quantification. The Consortium will also develop a tiered validation framework and assist in efficient deployment of controlled release experiments. Collaborative work across the wide range of measurement and analysis teams will be the most efficient approach to achieve our goals.

This initiative aims to achieve the following goals, with work in two task groups:

Task Group 1

• Develop consensus terminology and a taxonomy of terminology. Publish a NIST report or other document with these definitions.

• Develop a set of written consensus standards that capture the best practices, recommendations for data product formats, and methodology documentation. This will be achieved through collaborative evaluation of intercomparison exercises and common datasets analyzed by multiple teams.

• Implement and analyze alternative validation strategies, incorporating information from simulations, cross-team analysis, controlled releases, and well characterized industrial emission sources.

• All of these activities will support the goals of developing standards for detection and quantification of methane plumes with remote sensing data to ensure consistency, reliability, and trust in the data used by all stakeholders.

Task Group 2

• Develop definitions for a tiered validation framework, allowing for approaches such as algorithm validation (with data from other measurement systems), algorithm assessment with simulated data, performance assessment with well-characterized industrial emissions, and controlled release experiments

• Consensus validation strategies will be developed and documented, incorporating information from simulations, cross-team analysis, controlled releases, and well characterized industrial emission sources.

• Document consensus standards for analysis and reporting of results of controlled release experiments

• Develop platforms for improved communication and utilization of controlled release experiments, maximizing participation by measurement teams and opportunities for cross comparison of results

• Create a repository of controlled release measurement datasets for easy access by new participants and for community analysis.

Sharing of proprietary information developed by the Consortium will be subject to that detailed in the CRADA. Participants will not be required to contribute any funds or pay any fee. Contributions of data and/or methodologies is highly encouraged.

Participation Process

Eligibility will be determined by NIST based on information provided by prospective participants in response to this notice. Submitted responses from prospective participants will be evaluated by NIST to determine eligibility to participate in this Consortium. Prospective participants should provide a letter of interest with the following information to NIST's Consortium Manager:

(1) A description of their interest and experience in methane plume detection and quantification from remote sensing measurements and/or experience conducting and analyzing data from controlled release experiment for methane plume validation and/or related expertise necessary to contribute to Consortium activities.

(2) List of interested party's anticipated participants.

Letters of interest must not include business proprietary information. NIST will not treat any information provided in response to this notice as proprietary information. Following review, each organization will be notified of its eligibility. In order to participate in this Consortium, each eligible organization must sign a CRADA for this Consortium. All participants in this Consortium will be bound by the same terms and conditions. NIST does not guarantee participation in the Consortium to any organization submitting a letter of interest.

Authority: 15 U.S.C. 3710a.

Alicia Chambers,
NIST Executive Secretariat.

[FR Doc. 2024-30952 Filed 12-27-24; 8:45 am]

BILLING CODE 3510-13-P